DEPARTMENT OF HEALTH AND HUMAN SERVICES

National Institutes of Health

Center for Scientific Review; Amended Notice of Meeting

Notice is hereby given of a change in the meeting of the Center for Scientific Review Special Emphasis Panel, November 18, 2004, 1:30 p.m. to November 18, 2004, 2:30 p.m., National Institutes of Health, 6701 Rockledge Drive, Bethesda, MD, 20892 which was published in the Federal Register on November 18, 2004, 69 FR 67597-67598.

The meeting will be held December 3, 2004, from 3 p.m. to 4 p.m. The location remains the same. The meeting is closed to the public

Dated: November 18, 2004.
LaVerne Y. Stringfield,
Director, Office of Federal Advisory Committee Policy.

[FR Doc. 04-26258 Filed 11-26-04; 8:45 am]

BILLING CODE 4140-01-M